DEPARTMENT OF ENERGY

Federal Energy Regulatory Commission

[Docket No. CP16-10-000; Docket No. PF15-3-000; Docket No. CP16-13-000; Docket No. PF15-22-000]

Mountain Valley Pipeline, LLC; Equitrans, LP; Notice of Applications

On October 23, 2015, Mountain Valley Pipeline, LLC (Mountain Valley), having its principal place of business at 625 Liberty Avenue, Suite 1700, Pittsburgh, Pennsylvania 15222-3111, filed an application pursuant to section 7(c) of the Natural Gas Act (NGA) and the Federal Energy Regulatory Commission's (Commission) regulations seeking: (1) A certificate of public convenience and necessity authorizing Mountain Valley to construct, own, and operate the Mountain Valley Pipeline Project; (2) a blanket certificate of public convenience and necessity authorizing Mountain Valley to provide open-access interstate transportation services, with pre-granted abandonment approval; (3) a blanket certificate of public convenience and necessity under Part 157, Subpart F of the Commission's regulations for Mountain Valley to construct, operate, acquire, and abandon certain eligible facilities, and services related thereto; (4) approval for its proposed interim period rates and initial recourse rates for transportation service and for its pro forma tariff; and (5) such other authorizations or waivers as may be deemed necessary to allow for the construction to commence as proposed.

On October 27, 2015, Equitrans, LP (Equitrans), having its principal place of business at 625 Liberty Avenue, Suite 1700, Pittsburgh, Pennsylvania 15222-3111, filed an application pursuant to sections 7(b) and 7(c) of the Natural Gas Act (NGA) and the Federal Energy Regulatory Commission's (Commission) regulations seeking a certificate of public convenience and necessity to construct, own, and operate the Equitrans Expansion Project. Equitrans also seeks authority to abandon an existing compressor station located in Greene County, Pennsylvania.

The proposals of both applicants are more fully described in the applications, which are on file with the Commission and open to public inspection. The filings may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding the Mountain Valley or Equitrans applications should be directed to Matthew Eggerding, Counsel, 625 Liberty Avenue, Suite 1700, Pittsburgh, PA 15222, or call (412) 553-5786, or fax (412) 553-7781, or by email meggerding@eqt.com.

Mountain Valley requests authorization to construct facilities that will allow it to provide up to 2.0 million dekatherms per day of firm transportation service. Specifically, Mountain Valley proposes to construct and operate: (1) Approximately 301 miles of 42-inch diameter pipeline in West Virginia and Virginia; (2) three new compressor stations providing approximately 171,600 nominal horsepower (hp) of compression; and (3) other minor facilities.

Equitrans requests authorization to construct, own, and operate: (1) Approximately 7.87 miles of pipeline in Allegheny, Washington, and Greene Counties, Pennsylvania and Wetzel County, West Virginia; (2) a new 31,300 nominal hp compressor station (Redhook Compressor Station) in Greene County, Pennsylvania; (3) a new interconnect in Wetzel County, West Virginia with Mountain Valley's planned pipeline system (Webster Interconnect); and (4) ancillary facilities. Equitrans also seeks authority to abandon an existing 4,800 hp compressor station in Greene County, Pennsylvania (Pratt Compressor Station) following the construction of the new Redhook Compressor Station.

On October 31, 2014, Commission staff granted Mountain Valley's request to use the pre-filing process and assigned Docket No. PF15-3-000 to staff activities involving the Projects. Now, as of the filing of this application on October 23, 2015, the NEPA Pre-Filing Process for this project has ended. From this time forward, this proceeding will be conducted in Docket No. CP16-10-000 as noted in the caption of this Notice. Additionally, Equitrans, LP (Equitrans) filed a related application under CP16-13-000. On April 9, 2015, Commission staff granted Equitrans request to use the pre-filing process and assigned Docket No. PF15-22-000 to staff activities involving the Projects. Now, as of the filing of Equitrans' application on October 27, 2015, the NEPA Pre-Filing Process for this project has ended. From this time forward, Equitrans' proceeding will be conducted in Docket No. CP16-13-000.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 5 copies of the protest or intervention to the Federal Energy regulatory Commission, 888 First Street NE., Washington, DC 20426.

Comment Date: 5:00 p.m. Eastern Time on November 26, 2015.

Dated: November 5, 2015.
Nathaniel J. Davis, Sr.,
Deputy Secretary.

[FR Doc. 2015-28771 Filed 11-12-15; 8:45 am]

BILLING CODE 6717-01-P